DEPARTMENT OF AGRICULTURE

Forest Service

Coconino National Forest, Arizona; Arizona Snowbowl 2002 Facilities Improvements Plan

AGENCY: Forest Service, USDA.

ACTION: Notice of intent prepare an Environmental Impact Statement.

SUMMARY: The USDA Forest Service will prepare an Environmental Impact Statement (EIS) to disclose the anticipated environmental effects of the Arizona Snowbowl (Snowbowl) proposed 2002 Facilities Improvements Plan. The chief feature of the Proposed Action is Snowbowl's proposal to develop snowmaking. This would entail the burial of air, water, and electrical lines within the ski area sufficient to enable the Snowbowl to produce artificial snow from reclaimed water on 203.5 acres of skiing terrain. Snowmaking would also require the construction of a 10 million gallon water storage pond within the ski area, as well as the construction of a pipeline from Flagstaff to the Snowbowl to convey the water.

The other major aspects of the Proposed Action include:

• Realignment, modernization and/or upgrade of the Sunset, Hart Prairie and Aspen chairlifts; and installment of a new Humphrey's chairlift to provide skier access to a new pod of ski runs.

• Creation of approximately 66.5 acres of new skiing terrain, intended to primarily serve intermediate and advanced skiers. This proposed work comprises widening and extending some trails, and the construction of two sets of new trails.

• Construction of a seven-acre snowplay area near the Hart Prairie Lodge. The proposed snowplay area would include a surface conveyor, a parking lot, and a guest services building.

• Construction of a snowboarding halfpipe near the bottom of the existing Sunset chairlift.

• Enlargement and upgrading of both day lodges.

• Development of a 2,500 sq. foot Cultural Center in or near the Agassiz Lodge.

• Construction of three new ski team buildings to replace existing buildings.

• Placement of low-watt lighting on ski trails and facilities on the middle to lower areas of the ski area for night skiing.

• Construction of a redesigned entrance loop to improve vehicle traffic flow.

• Construction of pedestrian underpass between the Hart Prairie Lodge and the Sunset chairlift to increase pedestrian safety and improve traffic flow.

• Construction of a hiking trail from the existing Agassiz mid-station to the top of the Aggasiz chairlift.

• Construction of an Americans with Disability Act (ADA)-complaint summer access trail into Hart Prairie.

• Combination of parking lots 1 and 2.

• Thinning of approximately 42 acres of dead and dying trees.

• Improvement of skiing terrain by grading/stumping 50 acres and smoothing 10 acres on existing ski runs, and

• Creation of a dedicated ski teaching area to accommodate beginning skiers.

The agency gives notice of the full environmental analysis and decision-making process that will occur on the proposal so that interested and affected individuals may become aware of how they may participate in the process and contribute to the final decision.

DATES: Comments concerning the proposal and environmental analysis should be received by November 15, 2002. A draft environmental impact statement is expected in June of 2003 and a final environmental impact statement is expected in January of 2004.

ADDRESSES: Send written comments concerning this proposal to: Peaks Ranger District, attn: Snowbowl Upgrade, 5075 N. Highway 89, Flagstaff, AZ 86004. e-mail: r3_coconino_snowbowlupgrade@fs.fed.us.

FOR FURTHER INFORMATION: Direct questions about the proposed action and EIS to Ken Jacobs, Peaks Ranger District, Phone: (928) 214-2464.

SUPPLEMENTARY INFORMATION: The Proposed Action addresses issues related to safety, customer service and economics associated with the operations of the existing ski area. All elements of the proposal remain within the existing Special Use Permit Boundary. Presently, alpine skiing/snowboarding and other resort activities are provided to the public through a Special Use Permit (SUP) issued by the U.S. Forest Service and administered by the Coconino National Forest. Many of the proposed projects have been conceptually approved through a previous National Environmental Policy Act analysis.

The permitted ski area is coated on National Forest System lands within sections 31 and 32, Township 23 North, Range 7 East; section 36 Township 23 North, Range 6 East; sections 5 and 6, Township 22 North, Range 7 East; and sections 1, Township 22 North, Range 6 East.

The proposed improvements are consistent with the Coconino National Forest Land and Resource Management Plan (Forest Plan). The proposed improvements are considered necessary in light of current resort deficiencies, increased visitation experienced over the past decade and projects future visitation. The ensuing analysis will provide additional site-specific detail for the proposal to reflect changing socio-economic and environmental considerations, and may modify the project proposal in response to environmental issues.

The majority of the proposed improvements are originally within the 1979 Final Environmental Impact Statement and the Record of Decision for the Arizona Snowbowl Ski Area Proposal. New proposed projects have been designed to remain within the scope of the 1979 Ski Area Proposal and Final Environmental Impact Statement. The proposed improvements provide high quality, reliable recreational opportunities while minimizing effects to surrounding resource values. This has been accomplished by focusing the scope of the proposed action on the key elements necessary to significantly enhance the quality of the skiing experience offered to the recreating public.

Purpose and Need for Action

The Forest Service and Arizona Snowbowl cooperatively determined broad categories important to the improvement to the Arizona Snowbowl (Snowbowl) facilities. From these categories, a list of proposed projects was created. The overall Purpose and Need for these projects responds to the three broad categories, (1) consistent/reliable operating season by snowmaking, (2) improve skiing and recreational opportunities by bringing terrain and infrastructure into balance with demand, and (3) facilities need to comply with Americans with Disabilities Act (ADA).

Possible Alternatives

There are no alternatives identified at this time. However, different configurations of improvements or different sources of water for snowmaking will likely be explored.

Responsible Official

The responsible official is Jim Golden, Forest Supervisor for the Coconino National Forest, 2323 E Greenlaw Lane, Flagstaff AZ 86004. The responsible official will document the decision and reasons for the decision in a Record of Decision. That decision will be subject to appeal under 36 CFR part 215 or part 251.

Nature of Decision To Be Made

The decision will be to modify the master plan for the Snowbowl Ski permit, if an action alternative is selected. All potential actions are within the existing permit area; there will be no expansion of the area.

Scoping Process

Public questions and comments regarding this proposal are an integral part of this environmental analysis process. Comments will be used to identify issues and develop alternatives to Snowbowl's proposal. To assist the Forest Service in identifying and considering issues and concerns on the proposed action, comments should be as specific as possible.

Two public open houses will be held. The first, on October 10, 2002 from 6:30 p.m. to 8:30 p.m. and the second, on October 26, 2002 from 2 p.m. to 5 p.m. Both meetings will be held at the Flagstaff High School Commons in Flagstaff Arizona. The purpose of the meetings will be to provide the public with an opportunity to become more familiar with the proposal and to understand the review and analysis process that will be used in evaluating this proposal. Additional information may also be obtained on the web by accessing: http://www.fs.fed.us/r3/coconino/nepa.

Preliminary Issues

Identified preliminary issues include:

Traditional Cultural Property—The San Francisco Mountain is a Traditional Cultural Property (TCP) and was determined eligible for the National Register of Historic Places as part of the White Vulcan Mine Settlement in July 2000. The Mountain is of traditional cultural significance to several Indian tribes, including the Hopi, Navajo, Zuni, Hualapai, Havasupai, Yavapai-Apache, Yavpai-Prescott, Tonto Apache, White Mountain Apache, San Carlos Apache, San Juan Southern Paiute, Fort McDowell Mohave Apache, and Acoma. Previous input has indicated that commercial and recreational activities on the Mountain sometimes conflict with these values.

Snowmaking—Preliminary input from some members of the public have expressed concern over the hydrological effects of snowmaking on the surrounding land. In addition, some people have expressed health related concerns over the use of reclaimed water for snowmaking.

These issues as well as any other identified by this scoping process will be analyzed in detail during the EIS process. Alternatives may be developed or mitigation measures identified to address issues related to the proposed action.

Early Notice of Importance of Public Participation in Subsequent Environmental Review

A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519,553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participation by the close of the November 15, 2002 comment period so that substantive comments and objections are made available to the Forest Service at the time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received in response to this solicitation, including names and addresses of those who comment, will be considered part of the public record on this proposed action and will be available for public inspection.

Authority: 40 CFR 1501.7 and 1508.22; Forest Service Handbook 1909.15, Section 21)

Dated: October 1, 2002.
Rodger Zanotto,
Acting Forest Supervisor, Coconino National Forest.

[FR Doc. 02-25373 Filed 10-4-02; 8:45 am]

BILLING CODE 3410-11-M